DEPARTMENT OF AGRICULTURE

Forest Service

Opal Creek Scenic Recreation Area (SRA) Advisory Council; Meeting

AGENCY: Forest Service, USDA.

ACTION: Notice of meeting.

SUMMARY: An Opal Creek Scenic Recreation Area Advisory Council meeting will convene in Stayton, Oregon on Monday, August 21, 2000. The meeting is scheduled to begin at 6 p.m., and will conclude at approximately 8:30 p.m. The meeting will be held in the South Room of the Stayton Community Center, 400 West Virginia Street, Stayton, Oregon.

The Opal Creek Wilderness and Opal Creek Scenic Recreation Area Act of 1996 (Opal Creek Act) (P.L. 104-208) directed the Secretary of Agriculture to establish the Opal Creek Scenic Recreation Area Advisory Council. The Advisory Council is comprised of thirteen members representing state, county and city governments, and representatives of various organizations, which include mining industry, environmental organizations, inholders in Opal Creek Scenic Recreation Area, economic development, Indian tribes, adjacent landowners and recreation interests. The Council provides advice to the Secretary of Agriculture on preparation of a comprehensive Opal Creek Management Plan for the SRA, and consults on a periodic and regular basis on the management of the area. The tentative agenda includes: (1) Overview of the Federal Advisory Committee Act (FACA); (2) presentation on area mine closures; and (3) begin developing issue statements.

The public comment period is tentatively scheduled to begin at 8 p.m. Time allotted for individual presentations will be limited to 3 minutes. Written comments are encouraged, particularly if the material cannot be presented within the time limits of the comment period. Written comments may be submitted prior to the July 17 meeting by sending them to Designated Federal Official Stephanie Phillips at the address given below.

DISCLAIMER: This meeting notice is being published less than 15 days prior to the meeting due to a lack of time to adequately plan the meeting between the council's last meeting on Saturday, July 29 and this upcoming meeting on Monday, August 21. This late notice is authorized under 41 CFR 101-6.1015(b)(2).

FOR FURTHER INFORMATION CONTACT: For more information regarding this meeting, contact Designated Federal Official Stephanie Phillips; Willamette National Forest, Detroit Ranger District, HC 73 Box 320, Mill City, OR 97360; (503) 854-3366.

Dated: August 2, 2000.
Darrel L. Kenops,
Forest Supervisor.

[FR Doc. 00-20085 Filed 8-8-00; 8:45 am]

BILLING CODE 3410-11-M